DEPARTMENT OF COMMERCE

National Telecommunications and Information Administration

Notice: Broadband Grant Programs Meetings

AGENCY: National Telecommunications and Information Administration, U.S. Department of Commerce

ACTION: Notice of meetings.

SUMMARY: The National Telecommunications and Information Administration (NTIA) will begin holding meetings with interested parties on Monday, March 2, 2009, in connection with the broadband grant programs described in the Broadband Data Services Improvement Act and the American Recovery and Reinvestment Act of 2009 (collectively, “Broadband Grant Programs”). All interested parties are invited to schedule a meeting.

DATES: Meetings will be scheduled beginning March 2, 2009, and will continue until further notice.

ADDRESSES: The meetings will be held at the U.S. Department of Commerce, National Telecommunications and Information Administration, 1401 Constitution Avenue, N.W., Washington, D.C. (Please enter at 14th Street.) Room numbers will be provided to interested parties when meetings are scheduled. The disability accessible entrance is located at the 14th Street Aquarium Entrance.

FOR FURTHER INFORMATION CONTACT: To schedule a meeting, contact Barbara Brown at (202) 482-4374 or bbrown@ntia.doc.gov.

SUPPLEMENTARY INFORMATION: NTIA is scheduling meetings to afford interested parties the opportunity to discuss implementation of the Broadband Grant Programs as described in the Broadband Data Services Improvement Act and the American Recovery and Reinvestment Act of 2009. The Broadband Data Services Improvement Act was enacted in October 2008 and directs the Secretary of Commerce to award grants to eligible entities on a competitive basis to assess, identify and track broadband service deployment in each State. The American Recovery and Reinvestment Act of 2009 was enacted in February 2009 and directs NTIA to establish the “Broadband Technology Opportunities Program” to make grants available on a competitive basis to accelerate and expand broadband deployment. Information about the Broadband Grant Programs will be made available at http://www.ntia.doc.gov/broadbandgrants.

Each meeting will be considered an ex parte presentation, and the substance of the meeting will be placed on the public record. No later than two (2) days after a meeting, an interested party must submit a memorandum to NTIA which summarizes the substance of the meeting. Any written presentations provided at the meeting will also be placed on the public record. NTIA reserves the right to hold individual or group meetings, depending on the number of meeting requests received. Group meetings may be transcribed and/or streamed to the Web and placed on the public record.

Attendance at the meetings is limited to space available. Meetings will be physically accessible to people with disabilities. Individuals requesting accommodations, such as sign language interpretation or other ancillary aids, are asked to indicate this to Barbara Brown at least two (2) days prior to each meeting. Interested parties will have an opportunity to ask questions at the meetings. Individuals who would like to submit questions in writing should e-mail their questions to Barbara Brown at BBrown@ntia.doc.gov at least 24 hours in advance of the meeting.

Dated: February 19, 2009.
Kathy D. Smith,
Chief Counsel, National Telecommunications and Information Administration.

[FR Doc. E9-3897 Filed 2-23-09; 8:45 am]

BILLING CODE 3510-60-S